DEPARTMENT OF HEALTH AND HUMAN SERVICES

Meeting of the National Biodefense Science Board

AGENCY: Office of the Secretary, Department of Health and Human Services.

ACTION: Notice.

SUMMARY: As stipulated by the Federal Advisory Committee Act, the U.S. Department of Health and Human Services is hereby giving notice that the National Biodefense Science Board (NBSB) will be holding a public meeting via teleconference. This notice is being published under exceptional circumstances and provides the reason for providing less than 15 calendar days notice. The meeting is open to the public.

DATES: The NBSB will hold a public meeting on June 25, 2013 from 1:00 p.m. to 2:00 p.m. EST. The agenda is subject to change as priorities dictate.

ADDRESSES: Individuals who wish to participate should send an email to NBSB@HHS.GOV with “NBSB Registration” in the subject line. The meeting will occur by teleconference. To attend, call 1-888-455-0056, and enter passcode 9790185. Please call 15 minutes prior to the beginning of the conference call to facilitate attendance.

FOR FURTHER INFORMATION CONTACT: The National Biodefense Science Board mailbox: NBSB@HHS.GOV.

SUPPLEMENTARY INFORMATION: Pursuant to section 319M of the Public Health Service Act (42 U.S.C. 247d-7f) and section 222 of the Public Health Service Act (42 U.S.C. 217a), the Department of Health and Human Services established the National Biodefense Science Board. The NBSB shall provide expert advice and guidance to the Secretary on scientific, technical, and other matters of special interest to the Department of Health and Human Services regarding current and future chemical, biological, nuclear, and radiological agents, whether naturally occurring, accidental, or deliberate. The NBSB may also provide advice and guidance to the Secretary and/or the Assistant Secretary for Preparedness and Response (ASPR) on other matters related to public health emergency preparedness and response.

Background: This public meeting teleconference will be dedicated to vote on community resilience and the Public Health Emergency Medical Countermeasures Enterprise (PHEMCE) strategic end states tasks requests from the ASPR. Any additional agenda topics will be available on the NBSB's June meeting Web page prior to the public meeting. Recent administrative constraints have impacted the logistics of scheduling this meeting and schedule coordination necessitates holding this NBSB meeting on June 25. These exceptional circumstances prevent the normal 15 calendar days notice for this meeting. The next scheduled meeting of the Board will be announced in the Federal Register within the required time-frame established by the Federal Advisory Committee Act.

Community resilience is defined as the sustained ability of communities to withstand and recover from adversity. Resilient communities include healthy individuals and families with access to health care, both physical and psychological, as well as the knowledge and resources to know what to do to care for themselves and others in both routine and emergency situations. Enhanced resilience is considered critical to mitigating vulnerabilities, reducing negative health consequences, and rapidly restoring community functioning after emergency events. Recent research suggests that social connectedness (or social capital) can be central to the ability of a community to withstand disaster and rebuild both the infrastructure and the societal ties that are at the foundation of any community. The U.S. Department of Health and Human Services (HHS) is committed to community health resilience and improving the nation's ability to respond to and recover from major public health emergencies. The ASPR would like the NBSB to provide actionable recommendations to HHS on how the Department can build and help sustain community health resilience.

The 2012 U.S. Department of Health and Human Services (HHS) Public Health Emergency Medical Countermeasures Enterprise (PHEMCE) Implementation Plan states that the Office of the ASPR, by the end of fiscal year 2013, will lead PHEMCE agencies in defining Strategic End States for all PHEMCE capabilities, based on a clear description of the preparedness goals for addressing particular threats and/or medical countermeasure needs. Although the PHEMCE Implementation Plan has stated goals and objectives for preparedness, the identification of the gaps between these goals and objectives and what can actually be addressed due to finite resources must be considered. So while the perfect end state equals mitigating against all threats, this is not a likely reality. The ASPR is contemplating methodologies to achieve a suitable balance across these diverse needs, i.e., an adequate answer to what is an acceptable level of preparedness in light of constraints. In addition, the ASPR would like to determine how to best communicate levels of preparedness in a way the public could comprehend.

Availability of Materials: The meeting agenda and materials will be posted prior to the meeting on the June meeting Web page at www.phe.gov/nbsb.

Procedures for Providing Public Input: Members of the public are invited to attend by teleconference via a toll-free call-in phone number. The teleconference will be operator-assisted to allow the public the opportunity to provide comments to the NBSB. Public participation will be limited to time and space available. Public comments will be limited to no more than three minutes per speaker. To be placed on the public comment list, notify the operator when you join the teleconference.

Public comments received by close of business one week prior to each teleconference will be distributed to the NBSB in advance. Submit comments via email to NBSB@HHS.GOV, with “NBSB Public Comment” as the subject line.

Dated: June 10, 2013.
Nicole Lurie,
Assistant Secretary for Preparedness and Response.

[FR Doc. 2013-14326 Filed 6-14-13; 8:45 am]

BILLING CODE 4150-37-P